FEDERAL COMMUNICATIONS COMMISSION

[DA 18-98]

Disability Advisory Committee; Announcement of Next Meeting

AGENCY: Federal Communications Commission.

ACTION: Notice.

SUMMARY: This document announces the date of the next meeting of the Commission's Disability Advisory Committee (Committee or DAC). The meeting is open to the public. During this meeting, members of the Committee will receive and discuss summaries of activities and recommendations from its subcommittees.

DATES: The Committee's next meeting will take place on Wednesday, February 28, 2018, from 9:00 a.m. to approximately 3:30 p.m. (EST).

ADDRESSES: Federal Communications Commission, 445 12th Street SW, Washington, DC 20554, in the Commission Meeting Room.

FOR FURTHER INFORMATION CONTACT: Will Schell, Consumer and Governmental Affairs Bureau: 202-418-0767 (voice); email: DAC@fcc.gov.

SUPPLEMENTARY INFORMATION: The Committee was established in December 2014 to make recommendations to the Commission on a wide array of disability matters within the jurisdiction of the Commission, and to facilitate the participation of people with disabilities in proceedings before the Commission. The Committee is organized under, and operated in accordance with, the provisions of the Federal Advisory Committee Act (FACA). The Committee held its first meeting on March 17, 2015. At its February 28, 2018 meeting, the Committee is expected to receive and consider: A report and recommendation from its Video Programming Subcommittee regarding best practices for the aural description (for people who are blind or visually impaired) of visual but non-textual emergency information provided by broadcasters; reports on the activities of its Relay & Equipment Distribution Subcommittee; reports on the activities of its Technology Transitions Subcommittee; and reports on the activities of its Emergency Communications Subcommittee. The Committee is also expected to receive presentations from Commission staff or others on matters of interest to the Committee. A limited amount of time may be available on the agenda for comments and inquiries from the public. The public may comment or ask questions of presenters via the email address livequestions@fcc.gov.

The meeting site is fully accessible to people using wheelchairs or other mobility aids. Sign language interpreters, open captioning, and assistive listening devices will be provided on site. Other reasonable accommodations for people with disabilities are available upon request. If making a request for an accommodation, please include a description of the accommodation you will need and tell us how to contact you if we need more information. Make your request as early as possible by sending an email to fcc504@fcc.gov or calling the Consumer and Governmental Affairs Bureau at 202-418-0530 (voice), 202-418-0432 (TTY). Last minute requests will be accepted, but may be impossible to fill. The meeting will be webcast with open captioning, at: www.fcc.gov/live.

To request materials in accessible formats for people with disabilities (Braille, large print, electronic files, audio format), send an email to fcc504@fcc.gov or call the Consumer and Governmental Affairs Bureau at (202) 418-0530 (voice), (202) 418-0432 (TTY).

Federal Communications Commission.
Suzanne Singleton,
Chief, Disability Rights Office, Consumer and Governmental Affairs Bureau.

[FR Doc. 2018-02695 Filed 2-9-18; 8:45 am]

BILLING CODE 6712-01-P